DEPARTMENT OF TRANSPORTATION

Office of the Secretary

Notice of Applications for Certificates of Public Convenience and Necessity and Foreign Air Carrier Permits Filed Under Subpart B (formerly Subpart Q) During the Week Ending July 27, 2001

The following Applications for Certificates of Public Convenience and necessity and Foreign Air Carrier Permits were filed under Subpart B (formerly Subpart Q) of the Department of Transportation's Procedural Regulations (See 14 CFR 301.201 et seq.) The due date for Answers, Conforming Applications, or Motions to Modify Scope are set forth below for each application. Following the Answer period, DOT may process the application by expedited procedures. Such procedures may consist of the adoption of a show-cause order, a tentative order, or in appropriate cases a final order without further proceedings.

Docket Number: OST-2000-7525.

Date Filed: July 23, 2001.

Due Date for Answers, Conforming Applications, or Motion to Modify Scope: August 13, 2001.

Description: Application of Emery Worldwide Airlines, Inc., pursuant to 49 U.S.C. Section 41102 and Subpart B, requesting amendment of its Route 743 certificate authority to delete the city-pair segments specified and authorize scheduled foreign air transportation of property and mail between a point or points in the United States, on the one hand, and a point or points in Mexico, on the other hand. Emery Air also asks for authority to integrate the requested all-points U.S.-Mexico authority with its existing certificate and exemption authority, and to continue condition 12 of its Route 743 authority (waiving the dormancy provisions for intermitted service).

Docket Number: OST-2001-10239.

Date Filed: July 25, 2001.

Due Date for Answers, Conforming Applications, or Motion to Modify Scope: August 15, 2001.

Description: Joint Application of Atlas Air Worldwide Holdings, Inc., Airline Acquisition Corp I, Atlas Air, Inc., and Polar Air Cargo, Inc., pursuant to 49 U.S.C. Section 41105 and Subpart B, requesting approval of the de facto transfer of Polar's certificates of public convenience and necessity plus all exemption and related authorities to Atlas Air Worldwide Holdings, Inc., and its affiliates.

Cynthia L. Hatten,
Federal Register Liaison.

[FR Doc. 01-20310 Filed 8-13-01; 8:45 am]

BILLING CODE 4910-62-M